FEDERAL RETIREMENT THRIFT INVESTMENT BOARD MEETING

Sunshine Act; Notice of Meeting

TIME AND DATE: 11:00 a.m. (Eastern Time), June 25, 2012.

PLACE: 10th Floor Board Room, 77 K Street NE., Washington, DC 20002.

STATUS: Parts will be open to the public and parts closed to the public.

Matters To Be Considered

Parts Open to the Public

1. Approval of the Minutes of the May 21, 2012 Board Member Meeting.

2. Approval of the amendments to the Minutes of the April 30, 2012 Joint Board/Employee Thrift Advisory Council Meeting.

3. Thrift Savings Plan Activity Report by the Executive Director.

a. Participant Activity Report.

b. Legislative Report.

c. Monthly Investment Performance Review.

4. Budget Reports.

a. 2012 Budget Status Report.

b. 2013-2017 Strategic Budget Preview.

5. Data Breach.

6. Board Calendar Update.

Parts Closed to the Public

1. Procurement.

Contact Person for More Information

Kimberly Weaver, Director, Office of External Affairs, (202) 942-1640.

Dated: June 18, 2012.
James B. Petrick,
Secretary, Federal Retirement Thrift Investment Board.

[FR Doc. 2012-15289 Filed 6-19-12; 4:15 pm]

BILLING CODE 6760-01-P